FEDERAL COMMUNICATIONS COMMISSION

47 CFR Parts 1, 43, and 63

[DA 01-2825]

Removal of References to Sections in the Commission's Rules That No Longer Exist

AGENCY: Federal Communications Commission.

ACTION: Final rule.

SUMMARY: In this document the Commission amends references to sections that have been removed from the Commission's rules and amends a section heading.

DATES: Effective December 28, 2001.

FOR FURTHER INFORMATION CONTACT: Peggy Reitzel, Telecommunications Division, International Bureau, at (202) 418-1499.

SUPPLEMENTARY INFORMATION: We have removed references to sections in the Commission's rules. Specifically, we amend § 43.61 to remove the reference to former § 64.1002. We amend § 63.24 to remove the reference to paragraph (c) because there is no paragraph (c) in § 63.24. We revise the heading for § 63.52. Finally, we remove § 1.813. The requirements referenced in § 1.813 are no longer necessary.

List of Subjects

47 CFR Parts 1 and 43

Reporting and recordkeeping requirements.

47 CFR Part 63

Communications common carriers.

Federal Communications Commission.
Andrew S. Fishel,
Managing Director.

Rule Changes

For the reasons discussed in the preamble, the Federal Communications Commission amends 47 CFR parts 1, 43, and 63 as follows:

PART 1—PRACTICE AND PROCEDURE

1. The authority citation for part 1 continues to read as follows:

Authority: 47 U.S.C. 151, 154(i), 154(j), 155, 225, 303(r), 309 and 325(e).

§ 1.813 [Removed]

2. Remove § 1.813.

PART 43—REPORTS OF COMMUNICATION COMMON CARRIERS AND CERTAIN AFFILIATES

3. The authority citation for part 43 continues to read as follows:

Authority: 47 U.S.C. 154; Telecommunications Act of 1996, Pub. L. 104-104, secs. 402(b)(2)(B), (c), 110 Stat. 56 (1996) as amended unless otherwise noted. 47 U.S.C. 211, 219, 220 as amended.

4. Section 43.61 is amended by revising paragraph (a)(1) to read as follows:

§ 43.61 Reports of international telecommunications traffic.

(a) * * *

(1) The information contained in the reports shall include actual traffic and revenue data for each and every service provided by a common carrier, divided among service billed in the United States, service billed outside the United States, and service transiting the United States.

* * * * *

PART 63—EXTENSION OF LINES AND DISCONTINUANCE, REDUCTION, OUTAGE AND IMPAIRMENT OF SERVICE BY COMMON CARRIERS; AND GRANTS OF RECOGNIZED PRIVATE OPERATING AGENCY STATUS

5. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

6. Section 63.24 is amended by revising paragraph (b) to read as follows:

§ 63.24 Pro forma assignments and transfers of control.

* * * * *

(b) A pro forma assignment or transfer of control of an authorization to provide international telecommunications service is not subject to the requirements of § 63.18. A pro forma assignee or a carrier that is the subject of a pro forma transfer of control is not required to seek prior Commission approval for the transaction. A pro forma assignee must notify the Commission no later than 30 days after the assignment is consummated. The notification may be in the form of a letter (in duplicate to the Secretary), and it must contain a certification that the assignment was pro forma as defined in paragraph (a) of this section and, together with all previous pro forma transactions, does not result in a change of the carrier's ultimate control. A single letter may be filed for an assignment of more than one authorization if each authorization is identified by the file number under which it was granted.

7. Section 63.52 is amended by revising the section heading to read as follows:

§ 63.52 Copies required; fees; and filing periods for domestic authorizations.

* * * * *

[FR Doc. 01-31865 Filed 12-27-01; 8:45 am]

BILLING CODE 6712-01-P